DEPARTMENT OF ENERGY

Federal Energy Regulatory Commission

Combined Notice of Filings #1

Take notice that the Commission received the following electric rate filings:

Docket Numbers: ER13-1843-000; ER13-1844-000; ER10-2337-002; ER10-2338-002; ER10-2339-002; ER10-2340-002; ER10-2341-002; ER10-2342-002; ER10-2344-002; ER10-2355-002.

Applicants: Inland Empire Energy Center, LLC.

Description: Additional applicants to June 28, 2013 Triennial Market Power Analysis for the Southwest Region of the Edison Mission Energy subsidiaries.

Filed Date: 10/9/13.

Accession Number: 20131009-5164.

Comments Due: 5 p.m. ET 2/25/14.

Docket Numbers: ER10-3140-013.

Applicants: Inland Empire Energy Center, LLC.

Description: Supplement to June 13, 2013 Triennial Market Power Analysis of Inland Empire Energy Center, LLC.

Filed Date: 2/10/14.

Accession Number: 20140210-5172.

Comments Due: 5 p.m. ET 2/20/14.

Docket Numbers: ER14-41-001; ER14-42-001; ER12-1911-002; ER12-1912-002; ER12-1913-002; ER12-1915-002; ER12-1916-002; ER12-1917-002.

Applicants: RE Rosamond One LLC, RE Rosamond Two LLC, RE McKenzie 1 LLC, RE McKenzie 2 LLC, RE McKenzie 3 LLC, RE McKenzie 4 LLC, RE McKenzie 5 LLC, RE McKenzie 6 LLC.

Description: Supplement to January 13, 2014 Notice of Non-Material Change in Status of KKR MBR Sellers.

Filed Date: 2/11/14.

Accession Number: 20140211-5028.

Comments Due: 5 p.m. ET 3/4/14.

Docket Numbers: ER14-661-002.

Applicants: SG2 Imperial Valley LLC.

Description: Amendment to MBR Tariff Application to be effective 2/1/2014.

Filed Date: 2/11/14.

Accession Number: 20140211-5061.

Comments Due: 5 p.m. ET 3/4/14.

Docket Numbers: ER14-1301-000.

Applicants: Florida Power & Light Company.

Description: FPL and LCEC Rate Schedule FERC No. 326 to be effective 4/11/2014.

Filed Date: 2/10/14.

Accession Number: 20140210-5170.

Comments Due: 5 p.m. ET 3/3/14.

Docket Numbers: ER14-1302-000.

Applicants: Seminole Retail Energy Services, L.L.C.

Description: Initial Filing to be effective 3/10/2014.

Filed Date: 2/11/14.

Accession Number: 20140211-5032.

Comments Due: 5 p.m. ET 3/4/14.

Docket Numbers: ER14-1303-000.

Applicants: Southwest Power Pool, Inc.

Description: 2797 Prairie Wind Transmission & Westar Interconnection Agreement to be effective 12/31/9998.

Filed Date: 2/11/14.

Accession Number: 20140211-5034.

Comments Due: 5 p.m. ET 3/4/14.

Docket Numbers: ER14-1304-000.

Applicants: Southwest Power Pool, Inc.

Description: 2795 Prairie Wind Transmission & ITC Great Plains Inter. Agreement to be effective 12/31/9998.

Filed Date: 2/11/14.

Accession Number: 20140211-5037.

Comments Due: 5 p.m. ET 3/4/14.

Docket Numbers: ER14-1305-000.

Applicants: Southwest Power Pool, Inc.

Description: 2698 Exelon Generation Company Market Participant Agreement to be effective 3/1/2014.

Filed Date: 2/11/14.

Accession Number: 20140211-5062.

Comments Due: 5 p.m. ET 3/4/14.

Docket Numbers: ER14-1306-000.

Applicants: Northeast Utilities Service Company, The Connecticut Light and Power Company.

Description: Northeast Utilities Service Company submits Cancellation of Black Pond Junction Coke Works Agreement on behalf of its subsidiary.

Filed Date: 2/11/14.

Accession Number: 20140211-5064.

Comments Due: 5 p.m. ET 3/4/14.

Docket Numbers: ER14-1307-000.

Applicants: Southwestern Electric Power Company.

Description: SWEPCO-Minden PSA Amendment SPP Integrated Market to be effective 3/1/2014.

Filed Date: 2/11/14.

Accession Number: 20140211-5073.

Comments Due: 5 p.m. ET 3/4/14.

Docket Numbers: ER14-1308-000.

Applicants: Inland Empire Energy Center, LLC.

Description: Order No. 784 Compliance Filing to be effective 2/12/2014.

Filed Date: 2/11/14.

Accession Number: 20140211-5074.

Comments Due: 5 p.m. ET 3/4/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 11, 2014.
Nathaniel J. Davis, Sr.,
Deputy Secretary.

[FR Doc. 2014-03636 Filed 2-19-14; 8:45 am]

BILLING CODE 6717-01-P